DEPARTMENT OF ENERGY

Federal Energy Regulatory Commission

[Project No. 10164-002]

SE Hazelton A, L.P.; SE Hazelton A, LLC; Notice of Transfer of Exemption

1. By letter filed April 24, 2015,¹ William B. Conway, Jr., Counsel for Enel Green Power North America, Inc. (EGPNA),² informed the Commission that the exemption from licensing for the Hazelton A Project, FERC No. 10164, originally issued August 11, 1987,³ has been transferred to SE Hazelton A, LLC, an affiliate of Enel Green Power. The project is located on the Northside Canal in Jerome County, Idaho. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 40 FERC ¶ 62,155, Order Granting Exemption From Licensing (Conduit) (1987).

2. SE Hazelton A, LLC is now the exemptee of the Hazelton A Project, FERC No. 10164. All correspondence should be forwarded to: SE Hazelton A, LLC, c/o Enel Green Power North America, Inc., Attn: General Counsel, 1 Tech Drive, Suite 220, Andover, MA 01810.

Dated: May 19, 2015.
Kimberly D. Bose,
Secretary.

[FR Doc. 2015-12612 Filed 5-22-15; 8:45 am]

BILLING CODE 6717-01-P